POSTAL REGULATORY COMMISSION

Privacy Act of 1974; System of Records

AGENCY: Postal Regulatory Commission.

ACTION: Notice of a new system of records.

SUMMARY: The Postal Regulatory Commission (PRC) proposes to establish a new PRC system of records titled, “Postal Regulatory Commission/PRC-03 Medical File System Records.” PRC collects these records for a variety of purposes such as ensuring that records required to be retained on a long-term basis meet the mandates of law, Executive Order, or regulations (e.g., the Department of Labor's Occupational Safety and Health Administration (OSHA) and OWCP regulations), to address accommodation requests, and for other medically-related purposes (e.g., contact tracing of diseases, appropriate mitigation strategies, etc.).

DATES: This notice is effective upon publication, subject to a 30-day period in which to comment on the routine uses, described below. Please submit any comments by December 2, 2021.

ADDRESSES: Comments may be submitted to the Federal E-Rulemaking Portal electronically at http://www.regulations.gov. Comments can also be sent to the Office of the Secretary and Administration, Postal Regulatory Commission, 901 New York Ave. NW, Suite 200, Washington, DC 20268-0001, Attention: Revisions to Privacy Act Systems of Records. All comments received, including attachments and other supporting documents, are part of the public record and subject to public disclosure. All comments received will be posted without change to http://www.regulations.gov, including any personal information provided. You should submit only information that you wish to make publicly available.

FOR FURTHER INFORMATION CONTACT: For general and privacy questions, please contact: the Secretary, (202) 789-6800, HR@prc.gov, Postal Regulatory Commission, 901 New York Ave. NW, Suite 200, Washington, DC 20268-0001.

SUPPLEMENTARY INFORMATION: In accordance with the Privacy Act of 1974, the Postal Regulatory Commission (“PRC”) proposes to establish a new PRC system of records titled, “Postal Regulatory Commission/PRC-03 Medical File System Records.” PRC is publishing this system of records to provide notice to individuals regarding the collection, maintenance, use, and disclosure of medical records pertaining to PRC personnel (meaning employees and interns).

PRC is not seeking exemption from any Privacy Act provisions for this system of records.

In order to reduce the risk to individual privacy, PRC is minimizing the information it maintains. PRC will include this system in its inventory of record systems.

SYSTEM NAME AND NUMBER:

Postal Regulatory Commission/PRC-03 Medical File System Records.

SECURITY CLASSIFICATION:

Unclassified.

SYSTEM LOCATION:

The records are located at the PRC Headquarters in Washington, DC, and contractor-owned and operated facilities. Additionally, records may be maintained electronically at a PRC data center. Records within this system of records may be transferred to a PRC-authorized cloud service provider within the Continental United States.

SYSTEM MANAGER(S):

Secretary, Postal Regulatory Commission, HR@prc.gov.

AUTHORITY FOR MAINTENANCE OF THE SYSTEM:

39 U.S.C. 504(a); Executive Orders 12107 and 12196; Occupational Safety and Health Act (OSHA) of 1970, Public Law 91-596, Section 19(a) (29 U.S.C. 668(a)); Section 319 of the Public Health Service Act (42 U.S.C. 247d; American with Disabilities Act, including 42 U.S.C. 12112(d)(3)(B) (allowing medical examination after an offer of employment has been made to a job applicant), 29 CFR 602.14, 1630.2(r), 1630.14(b)(1), (c)(1), (d)(4); 29 U.S.C. 668, 29 CFR part 1904, 29 CFR 1910.1020, 29 CFR 1960.66; Executive Order No. 14043, Requiring Coronavirus Disease 2019 Vaccination for Federal Employees; Executive Order 13164, Establishing Procedures to Facilitate the Provision of Reasonable Accommodation; EEOC, Enforcement Guidance on Reasonable Accommodation and Undue Hardship Under the Americans with Disabilities Act, 29 CFR part 1615; Rehabilitation Act of 1973, 29 U.S.C. 12101 et seq.; 29 U.S.C. 971; 29 CFR 1630; Title VII of the Civil Rights Act, 42 U.S.C. 2000e.

PURPOSE(S) OF THE SYSTEM:

Records in this system of records are maintained for a variety of purposes, which include the following:

a. To ensure that records required to be retained on a long-term basis to meet the mandates of law, Executive Order, or regulations (e.g., the Department of Labor's Occupational Safety and Health Administration (OSHA) and OWCP regulations), are so maintained.

b. To provide a legal document describing the health care administered and any exposure incident.

c. To provide a method for evaluating quality of health care rendered and job-health-protection including engineering protection provided, protective equipment worn, workplace monitoring, and medical exam monitoring required by OSHA or by good practice.

d. To ensure that all relevant, necessary, accurate, and timely data are available to support any medically-related employment decisions affecting the subject of the records (e.g., in connection with fitness-for-duty and disability retirement decisions).

e. To document claims filed with and the decisions reached by the Department of Labor's Office of Workers' Compensation Program (OWCP) and the individual's possible reemployment rights under statutes governing that program.

f. To document employees' reporting of on-the-job injuries or unhealthy or unsafe working conditions, including the reporting of such conditions to OSHA and actions taken by that agency or by the employing agency.

g. To facilitate communication among members of an on-site health and wellness program and to the individual employee participating in the program.

h. To collect records when the PRC determines that collection is necessary to protect the health of PRC personnel (meaning employees, and interns).

i. To maintain records necessary and relevant to PRC activities responding to and mitigating COVID-19, other high-consequence public health threats, or diseases and illnesses relating to a public health emergency.

j. To provide a method by which the PRC can identify PRC employees who have requested “reasonable accommodations” in their office, work stations, other PRC facilities, and/or to access other benefits and privileges of employment. Information on the disposition of each request to also be maintained in this system.

CATEGORIES OF INDIVIDUALS COVERED BY THE SYSTEM:

Current and former PRC personnel (meaning employees and interns).

CATEGORIES OF RECORDS IN THE SYSTEM:

Records maintained in this system include:

a. Medical records, forms, and reports completed or obtained when an individual applies for a Federal job and is subsequently employed.

b. Medical records, forms, and reports completed during employment as a condition of employment, either by the employing agency or by another agency, State or local government entity, or a private sector entity under contract to the employing agency.

c. Reports of on-the-job injuries and medical records, forms, and reports generated as a result of the filing of a claim for Workers' Compensation, whether the claim is accepted or not. The official compensation claim file is not covered by this system; rather, it is part OWCP system of records.

d. All other medical records, forms, and reports created on an employee during their period of employment, including any retained on a temporary basis (e.g., those designated to be retained only during the period of service with a given agency) and those designated for long-term retention (i.e., those retained for the entire duration of Federal service and for some period of time after).

e. Records resulting from participation in agency-sponsored health promotion and wellness activities, including health risk appraisals, biometric testing, health coaching, disease management, behavioral management, preventive services, fitness programs, and any other activities that could be considered part of a comprehensive worksite health and wellness program.

f. Health screening and contact tracing records, which may include identification and contact information (such as name, address, work or personal phone number(s), work or personal email address(es), work office/division, employee ID number, data watch information, medical reports, assessments, vaccination status, testing status (where and when it occurred; status of results), test type, test results, disease type, health status, approximate date of exposure, last date physically present in the PRC facility/at a PRC event, name of facility visited, areas of the PRC or other facility (if a PRC event at a non-PRC facility) traversed, areas and objects touched, workplace contacts, names of persons who had physical contact with or was in prolonged close physical proximity to infected/potentially infected persons, extended proximity event time and date, number of events, number of individuals in an event, number of individuals at location, dates and locations of domestic and international travel, and related information and documents collected for the purpose of screening and contact tracing;

g. Other individual information directly related and relevant to PRC activities responding to and mitigating a public health emergency;

h. The categories of records in this system include but are not limited to the information that current and former PRC personnel (meaning employees and interns) and applicants must provide by submitting a reasonable accommodation requests for medical and/or religious exceptions as required by law, as well as the underlying information necessary to evaluate and confirm the legal entitlement of the exception. This information may include the name and employment information of the employee needing an accommodation; requestor's name and contact information (if different than the employee who needs an accommodation); date request was initiated; information concerning the nature of the disability and the need for accommodation, including appropriate medical documentation; information concerning the nature of the sincerely held religious belief, practice, or observance and the need for accommodation, including any appropriate documentation; details of the accommodation request and disposition, such as: Type of accommodation requested, how the requested accommodation would assist in job performance, the sources of technical assistance consulted in trying to identify alternative reasonable accommodation, any additional information provided by the requestor related to the processing of the request; disposition of the request, whether the request was approved or denied; and notification(s) to the employee and his/her supervisor(s) regarding the accommodation.

RECORD SOURCE CATEGORIES:

Records in This System are Obtained From:

a. The individual to whom the records pertain.

b. Federal and private sector medical practitioners and treatment facilities.

c. Supervisors/managers and other agency officials.

d. Other agency records.

In addition, records are obtained through attestations, interviews, or electronically from the individuals working for the PRC; those individuals who are physically present in a PRC facility or at a PRC event; other Federal or state agencies; physicians (as allowed by law or with consent from the individual); PRC visitors or their employers; and PRC personnel and visitors who maintain (manually or electronically) a log or report of their close physical contacts (and the duration of that contact) while in PRC facilities to individuals designated by PRC.

ROUTINE USES OF RECORDS MAINTAINED IN THE SYSTEM, INCLUDING CATEGORIES OF USERS AND PURPOSES OF SUCH USES:

In addition to those disclosures generally permitted under the Privacy Act of 1974, records and/or information or portions thereof maintained as part of this system may be disclosed outside PRC as a routine use as follows:

a. To disclose relevant information to the Department of Labor, Department of Veterans Affairs, Social Security Administration, Federal Retirement Thrift Investment Board, or a national, state, or local social security type agency, when necessary to adjudicate a claim (filed by or on behalf of the individual) under a retirement, insurance, or health benefit program.

b. To disclose relevant information to a Federal, state, or local agency to the extent necessary to comply with laws governing reporting of communicable disease.

c. To disclose relevant and necessary information to another Federal, state, or local agency, to a court, or a party in litigation before a court or in an administrative proceeding being conducted by a Federal or state agency when the Government is a party to the judicial or administrative proceeding.

d. To the United States Department of Justice (“DOJ”), for the purpose of representing or providing legal advice to the PRC in a proceeding before a court, adjudicative body, or other administrative body before which the PRC is authorized to appear, when the records are relevant and necessary to the proceeding, when such proceeding involves:

1. The agency, or any component thereof; or

2. Any employee of the agency in their official capacity; or

3. Any employee of the agency in their individual capacity where the DOJ or the agency has agreed to represent the employee; or

4. The United States, where the agency determines that litigation is likely to affect the agency or any of its components, is a party to litigation or has an interest in such litigation, and the use of such records by the DOJ or the agency is deemed by the agency to be relevant and necessary to the litigation.

e. To Federal agencies such as the Health and Human Services (HHS), State and local health departments, and other public health or cooperating medical authorities in connection with program activities and related collaborative efforts to deal more effectively with exposures to communicable diseases, and to satisfy mandatory reporting requirements when applicable.

f. To appropriate Federal, state, local, tribal, or foreign governmental agencies or multilateral governmental organizations, to the extent permitted by law, and in consultation with legal counsel, for the purpose of protecting the vital interests of a data subject or other persons, including to assist such agencies or organizations in preventing exposure to or transmission of a communicable or quarantinable disease or to combat other significant public health threats.

g. Where a record, either alone or in conjunction with other information, indicates a violation or potential violation of law—criminal, civil, or regulatory in nature—the relevant records may be disclosed to the appropriate federal, state, local, territorial, tribal, or foreign law enforcement authority or other appropriate entity charged with the responsibility for investigating or prosecuting such violation or charged with enforcing or implementing such law.

h. To disclose information to the Federal Labor Relations Authority and its General Counsel, the Equal Employment Opportunity Commission, arbitrators, and hearing examiners to the extent necessary to carry out their authorized duties.

i. To disclose information to the Office of Federal Employees Group Life Insurance or Federal Retirement Thrift Investment Board that is relevant and necessary to adjudicate claims.

j. To disclose information, when an individual to whom a record pertains is mentally incompetent or under other legal disability, to any person who is responsible for the care of the individual, to the extent necessary.

k. To disclose to the agency-appointed representative of an employee, all notices, determinations, decisions, or other written communications issued to the employee, in connection with an examination ordered by an agency under medical evaluation (formerly Fitness for Duty) examinations procedures.

l. To disclose information to a Federal, state, or local agency, in response to its request or at the initiation of the agency maintaining the records, in connection with the retention of an employee, the issuance of a security clearance, the conducting of a suitability or security investigation of an individual, the classifying of jobs, the letting of a contract, or the issuance of a license, grant, or other benefit by the requesting agency, or the lawful, statutory, administrative, or investigative purpose of the agency, to the extent that the information is relevant and necessary to the requesting agency's decision on the matter.

m. To disclose to any Federal, state, or local government agency, in response to its request or at the initiation of the agency maintaining the records, information relevant and necessary to the lawful, statutory, administrative, or investigatory purpose of that agency as it relates to individuals who might have contracted an illness or been exposed to or suffered from a health hazard while employed in the Federal workforce or the assurance of compliance with Federal, state, or local government laws on health and safety in the work environment.

n. To disclose information to contractors or volunteers performing or working on a contract, service, grant, cooperative agreement or job for the Federal Government.

o. To the National Archives and Records Administration (NARA) pursuant to records management inspections being conducted under the authority of 44 U.S.C. 2904 and 2906.

p. To appropriate agencies, entities, and persons when (1) the PRC suspects or has confirmed that there has been a breach of PRC systems; (2) the PRC has determined that as a result of the suspected or confirmed breach there is a risk of harm to individuals, the PRC (including its information systems, programs, and operations), the Federal Government, or national security; and (3) the disclosure made to such agencies, entities, and persons is reasonably necessary to assist in connection with the PRC's efforts to respond to the suspected or confirmed breach or to prevent, minimize, or remedy such harm.

q. To another Federal agency or Federal entity, when the PRC determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

r. The PRC may disclose information to a Member of Congress or staff acting upon the Member's behalf when the Member or staff requests the information on behalf of, and at the written request of, the individual who is the subject of the record.

POLICIES AND PRACTICES FOR STORAGE OF RECORDS:

PRC stores records in this system electronically or on paper in secure facilities in a locked drawer behind a locked door. The records may be stored on magnetic disc, cloud storage, and digital media. Medical information collected is maintained on separate forms and in separate medical files and are treated as confidential medical records.

POLICIES AND PRACTICES FOR RETRIEVAL OF RECORDS:

Records are retrieved by an individual's name or other identification information (such as email address, employee identification number, or SSN).

POLICIES AND PRACTICES FOR RETENTION AND DISPOSAL OF RECORDS:

Records are managed in accordance with the PRC Records Schedule DAA-0458-2018-0001, and General Records Schedules (GRS) 2.7 Employee Health and Safety Records DAA-GRS-2017-0010-0012.

ADMINISTRATIVE, TECHNICAL, AND PHYSICAL SAFEGUARDS:

Records in this system are safeguarded in accordance with applicable law, rules and policies, including all applicable PRC automated systems security and access policies. Strict controls have been imposed to minimize the risk of compromising the information that is being stored. Access to the computer system containing the records in this system is limited to those individuals who have a need to know the information for the performance of their official duties and who have appropriate clearances.

RECORD ACCESS PROCEDURES:

Individuals seeking access to and notification of any record contained in this system of records referencing them, or seeking to contest its content, may submit a request in writing to the Secretary whose contact information can be found at https://www.prc.gov/foia under “PRC FOIA and Privacy Act Information.” If an individual believes more than one component maintains Privacy Act records concerning him or her, the individual may submit the request to the FOIA Public Liaison, Postal Regulatory Commission, 901 New York Ave NW, Suite 200, Washington, DC 202-789-6800.

When an individual is seeking records about himself or herself from this system of records or any other PRC system of records, the individual's request must conform with the Privacy Act regulations set forth in 39 CFR part 3006. The individual must first verify their identity, meaning that the individual must provide their full name, current address, and date and place of birth. The individual must sign the request, and the individual's signature must either be notarized or submitted under 28 U.S.C. 1746, a law that permits statements to be made under penalty of perjury as a substitute for notarization. While no specific form is required, an individual may obtain forms for this purpose from the FOIA Public Liaison, available via https://www.prc.gov/foia or 202-789-6800. In addition, the individual should:

• Explain why they believe the PRC would have information being requested;

• Identify which component(s) of the PRC they believe may have the information;

• Specify when the individual believes the records would have been created; and

• Provide any other information that will help the FOIA staff determine which PRC component may have responsive records;

If the request is seeking records pertaining to another living individual, the request must include an authorization from the individual whose record is being requested, authorizing the release to the requester.

Without the above information, the component(s) may not be able to conduct an effective search, and the individual's request may be denied due to lack of specificity or lack of compliance with applicable regulations.

CONTESTING RECORD PROCEDURES:

Individuals may make a request for amendment or correction of a record of the PRC about the individual by writing directly to the Secretary, unless the record is not subject to amendment or correction. The request should identify each particular record in question, state the amendment or correction desired, and state why the individual believes that the record is not accurate, relevant, timely, or complete. The individual may submit any documentation that would be helpful. The request should state whether the individual believes that the same record is in more than one system of records.

NOTIFICATION PROCEDURES:

See “Records Access Procedures” above.

EXEMPTIONS PROMULGATED FOR THE SYSTEM:

None.

HISTORY:

None.

By the Commission.
Erica A. Barker,
Secretary.

[FR Doc. 2021-23833 Filed 11-1-21; 8:45 am]

BILLING CODE 7710-FW-P